DEPARTMENT OF HEALTH AND HUMAN SERVICES

Administration for Children and Families

Proposed Information Collection Activity; Comment Request

Proposed Projects

Title: DHHS/ACF Employment Retention and Advancement (ERA) Evaluation 12-Month Survey.

OMB No.: New Collection.

Description: The Employment Retention and Advancement (ERA) Evaluation is the most ambitious, comprehensive effort to learn what works in this area to date and is explicitly designed to build on past research by rigorously testing a wide variety of approaches to promoting employment retention and advancement for a range of populations. The project, conceived and sponsored by the Administration for Children and Families (ACF) of the U.S. Department of Health and Human Services (HHS),¹ seeks to “conduct a multi-site evaluation that studies the net impact and cost-benefits of programs designed to help Temporary Assistance for Needy Families (TANF) recipients, former TANF recipients, or families at-risk of needing TANF benefits retain and advance in employment.” ² The ERA Evaluation involves up to 15 random assignment experiments in 9 states, testing a diverse set of strategies designed to promote stable employment and/or career advancement for current and former welfare recipients and other low-income parents. Over the next several years, the ERA project will generate a wealth of rigorous data on the implementation, effects, and costs of these alternative approaches. The data collected will be used for the following purposes:

¹ The U.S. Department of Labor has also provided funding to support the ERA project.

² From the Department of Health and Human Services RFP No.: 105-99-8100

• To study ERA's impacts on employment, earnings, participation, educational attainment and income;

• To collect data on a wider range of outcome measures than is available through welfare or UI records in order to understand how individuals were affected by ERA; job retention and job quality, educational attainment; interactions with and knowledge of the ERA program; household composition; childcare, transportation, and health coverage; and income;

• To supplement research on the implementation of ERA across sites;

• To conduct non-experimental analyses to explain participation decisions and provide a descriptive picture of the circumstances of low-wage workers;

• To obtain participation information important to the evaluation's benefit-cost component;

• And to obtain contact information for possible future follow-up, information that will be important to achieving high response rates for the 36-month survey.

Respondents: The respondents of the 12-month survey are Temporary Assistance for Needy Families (TANF) applicants, current and former TANF recipients, or individuals in families at-risk of needing TANF benefits (working poor and hard-to-employ) from 9 states participating in the ERA Evaluation: California, Oregon, New York, Ohio, Minnesota, Illinois, South Carolina, Texas, Tennessee. Survey respondents can be grouped according to 3 program clusters: Advancement projects; placement and retention (hard-to-employ) projects; and mixed goal projects. All 3 program clusters will receive the 12-month core survey. The placement and retention (hard-to-employ) participants will also receive the hard-to-employ survey module. Survey participants will be administered a telephone survey (for those individuals who cannot be reached by phone, staff at the survey firm will attempt to contact them in person) approximately 12 months after random assignment. Approximately 7,050 participants will complete the core survey and 2,400 participants will complete the core plus hard-to-employ module survey.

Annual Burden Estimates
Instrument | Number of respondents | Number of responses per respondent | Average burden hours per response | Total burden hours
12-Month Survey (Core only) | 7,050 | 1 | 30 minutes or .5 hrs | 3,525
12-Month Survey (Core plus Hard-to-Employ Module) | 2,400 | 1 | 45 minutes or .75 hrs | 1,800

Estimated Total Annual Burden Hours: 5,325.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 7, 2002,
Bob Sargis,
Reports Clearance Officer.

[FR Doc. 02-6121 Filed 3-13-02; 8:45 am]

BILLING CODE 4184-01-M